DEPARTMENT OF THE INTERIOR

Bureau of Land Management

[LLWO350000.L14300000]

Notice of Extension of Public Comment Period for Programmatic Environmental Impact Statement To Develop and Implement Agency-Specific Programs for Solar Energy Development

AGENCY: Bureau of Land Management, Interior.

ACTION: Notice of extension.

SUMMARY: The Department of Energy and the Bureau of Land Management (BLM) (the Agencies) are extending the public comment period for the Programmatic Environmental Impact Statement to Develop and Implement Agency-Specific Programs for Solar Energy Development (Solar PEIS). The Solar PEIS includes BLM-administered lands in the States of Arizona, California, Colorado, New Mexico, Nevada, and Utah. A notice published in the Federal Register on June 30, 2009 [74 FR 31307] provided for a public comment period ending on July 30, 2009.

DATES: Several individuals and organizations have requested an extension of the comment period. The Agencies have decided to act in accordance with these requests; therefore, comments on the solar energy study areas will now be accepted through September 14, 2009. Comments received or postmarked after September 14, 2009 will be considered to the extent practicable.

ADDRESSES: You may submit written comments by the following methods:

• Electronically, using the online comment form available on the project Web site: http://solareis.anl.gov. This is the preferred method of commenting.

• In writing, addressed to: Solar Energy PEIS, Argonne National Laboratory, 9700 S. Cass Avenue—EVS/900, Argonne, IL 60439.

FOR FURTHER INFORMATION CONTACT: For further information contact: Linda Resseguie, BLM Washington Office, linda_resseguie@blm.gov, 202-452-7774; or Lisa Jorgensen, Department of Energy, Golden Field Office, lisa.jorgensen@go.doe.gov, 303-275-4906. You may also visit the Solar PEIS Web site at http://solareis.anl.gov.

Mike Pool,
Acting Director, Bureau of Land Management.

[FR Doc. E9-17782 Filed 7-24-09; 8:45 am]

BILLING CODE 4310-84-P